DEPARTMENT OF ENERGY

Federal Energy Regulatory Commission

Combined Notice of Filings #1

Take notice that the Commission received the following electric corporate filings:

Docket Numbers: EC18-63-000.

Applicants: Bayou Cove Peaking Power LLC, Big Cajun I Peaking Power LLC, CottonWood Energy Company LP, Louisiana Generating LLC, NRG Sterlington Power LLC, NRG Cottonwood Tenant LLC, NRG Power Marketing LLC, Cleco Energy LLC, Cleco Corporate Holdings LLC, Cleco Group LLC, Cleco Partners L.P.

Description: Joint Application for Order Authorizing Disposition of Jurisdictional Facilities Under Section 203 of the Federal Power Act of the Cleco Applicants and NRG Applicants.

Filed Date: 2/27/18.

Accession Number: 20180227-5186.

Comments Due: 5 p.m. ET 3/20/18.

Take notice that the Commission received the following electric rate filings:

Docket Numbers: ER15-1873-008; ER10-2124-018; ER10-2125-019; ER10-2127-017; ER10-2128-018; ER10-2129-013 ER10-2130-018; ER10-2131-020; ER10-2132-018 ER10-2133-019; ER10-2134-012; ER10-2135-013 ER10-2136-013; ER10-2137-020; ER10-2138-020 ER10-2139-020; ER10-2140-020; ER10-2141-020 ER10-2764-018; ER11-3872-020; ER11-4044-019 ER11-4046-018; ER12-164-017; ER14-2187-014 ER14-2798-012; ER14-2799-012; ER15-103-008 ER15-1041-008; ER15-1873-008; ER15-2205-008 ER16-1720-005; ER17-2336-003; ER17-2337-003 ER18-140-003; ER18-471-002; ER18-472-002.

Applicants: Buckeye Wind Energy LLC, Prairie Breeze Wind Energy II LLC, Prairie Breeze Wind Energy III LLC, States Edge Wind I LLC, States Edge Wind I Holdings LLC, Invenergy Energy Management LLC, Beech Ridge Energy LLC, Beech Ridge Energy II LLC, Beech Ridge Energy Storage LLC, Forward Energy LLC, Gratiot County Wind LLC, Gratiot County Wind II LLC, Grand Ridge Energy LLC, Grand Ridge Energy II LLC, Grand Ridge Energy III LLC, Grand Ridge Energy V LLC, Grand Ridge Energy Storage LLC, Grays Harbor Energy LLC, Hardee Power Partners Limited, Invenergy Nelson LLC, Invenergy TN LLC, Lackawanna Energy Center LLC, Sheldon Energy LLC, Shoreham Solar Commons Holdings LLC, Spindle Hill Energy LLC, Stony Creek Energy LLC, Spring Canyon Energy LLC, Shoreham Solar Commons LLC, Judith Gap Energy LLC, Invenergy Cannon Falls LLC, Grand Ridge Energy IV LLC, Bishop Hill Energy III LLC, Vantage Wind Energy LLC, Willow Creek Energy, LLC, Wolverine Creek Energy LLC.

Description: Notice of Change in Facts under Market-Based Rate Authority of Buckeye Wind Energy LLC, et al.

Filed Date: 2/27/18.

Accession Number: 20180227-5143.

Comments Due: 5 p.m. ET 3/20/18.

Docket Numbers: ER17-2323-001.

Applicants: Midcontinent Independent System Operator, Inc., Ameren Illinois Company.

Description: Tariff Amendment: 2018-02-28 Deficiency Response re revisions to Ameren Att O Rate Template to be effective 6/1/2018.

Filed Date: 2/28/18.

Accession Number: 20180228-5069.

Comments Due: 5 p.m. ET 3/21/18.

Docket Numbers: ER18-541-001.

Applicants: Rausch Creek Generation, LLC.

Description: Tariff Amendment: Reactive Tariff to be effective 2/28/2018.

Filed Date: 2/27/18.

Accession Number: 20180227-5142.

Comments Due: 5 p.m. ET 3/20/18.

Docket Numbers: ER18-920-000.

Applicants: Marco DM Holdings, L.L.C.

Description: Baseline eTariff Filing: Market-Based Rate Application to be effective 4/30/2018.

Filed Date: 2/28/18.

Accession Number: 20180228-5019.

Comments Due: 5 p.m. ET 3/21/18.

Docket Numbers: ER18-921-000.

Applicants: PJM Interconnection, L.L.C.

Description: § 205(d) Rate Filing: Original WMPA SA No. 4948; Queue No. AD1-053 to be effective 2/15/2018.

Filed Date: 2/28/18.

Accession Number: 20180228-5030.

Comments Due: 5 p.m. ET 3/21/18.

Docket Numbers: ER18-923-000.

Applicants: New England Power Pool Participants Committee.

Description: § 205(d) Rate Filing: Mar 2018 Membership Filing to be effective 2/1/2018.

Filed Date: 2/28/18.

Accession Number: 20180228-5086.

Comments Due: 5 p.m. ET 3/21/18.

Docket Numbers: ER18-924-000.

Applicants: Arizona Public Service Company.

Description: § 205(d) Rate Filing: Rate Schedule No. 224—ATS Participation Agreement to be effective 5/1/2018.

Filed Date: 2/28/18.

Accession Number: 20180228-5089.

Comments Due: 5 p.m. ET 3/21/18.

Docket Numbers: ER18-925-000.

Applicants: Michigan Electric Transmission Company.

Description: § 205(d) Rate Filing: Filing of A&R License Agreement w LBWL to be effective 4/30/2018.

Filed Date: 2/28/18.

Accession Number: 20180228-5090.

Comments Due: 5 p.m. ET 3/21/18.

Docket Numbers: ER18-926-000.

Applicants: Southern California Edison Company.

Description: § 205(d) Rate Filing: GIA & DSA & Notice of Cancellation LA Stanton Energy Reliability Center Project to be effective 2/8/2018.

Filed Date: 2/28/18.

Accession Number: 20180228-5095.

Comments Due: 5 p.m. ET 3/21/18.

Docket Numbers: ER18-927-000.

Applicants: PJM Interconnection, L.L.C.

Description: Tariff Cancellation: Notice of Cancellation of First Revised ISA, SA No. 3638; Queue No. AA1-101 to be effective 2/13/2018.

Filed Date: 2/28/18.

Accession Number: 20180228-5135.

Comments Due: 5 p.m. ET 3/21/18.

Docket Numbers: ER18-928-000.

Applicants: PJM Interconnection, L.L.C.

Description: § 205(d) Rate Filing: Original WMPA, SA No. 4951; PJM Queue No. AD1-054 to be effective 2/20/2018.

Filed Date: 2/28/18.

Accession Number: 20180228-5139.

Comments Due: 5 p.m. ET 3/21/18.

Docket Numbers: ER18-929-000.

Applicants: Penn Oak Services, LLC.

Description: Baseline eTariff Filing: Penn Oak Services, LLC MBR Application to be effective 3/1/2018.

Filed Date: 2/28/18.

Accession Number: 20180228-5144.

Comments Due: 5 p.m. ET 3/21/18.

Docket Numbers: ER18-930-000.

Applicants: PJM Interconnection, L.L.C.

Description: Tariff Cancellation: Notice of Cancellation of ISA, SA No. 3413; Queue No. V2-028 to be effective 4/10/2018.

Filed Date: 2/28/18.

Accession Number: 20180228-5162.

Comments Due: 5 p.m. ET 3/21/18.

Docket Numbers: ER18-931-000.

Applicants: Central Hudson Gas & Electric Corporation.

Description: § 205(d) Rate Filing: Revisions to FERC Rate Schedule 202 to be effective 2/15/2018.

Filed Date: 2/28/18.

Accession Number: 20180228-5165.

Comments Due: 5 p.m. ET 3/21/18.

Docket Numbers: ER18-932-000.

Applicants: PJM Interconnection, L.L.C.

Description: § 205(d) Rate Filing: Revisions to OATT and OA RE: FTR Case Performance to be effective 5/1/2018.

Filed Date: 2/28/18.

Accession Number: 20180228-5172.

Comments Due: 5 p.m. ET 3/21/18.

Docket Numbers: ER18-933-000.

Applicants: Arizona Public Service Company.

Description: § 205(d) Rate Filing: Rate Schedule No. 152, ANPP Westwing Switchyard Interconnection Agreement to be effective 5/1/2018.

Filed Date: 2/28/18.

Accession Number: 20180228-5173.

Comments Due: 5 p.m. ET 3/21/18.

Docket Numbers: ER18-934-000.

Applicants: PJM Interconnection, L.L.C.

Description: § 205(d) Rate Filing: Rev to OATT and OA RE: FTR Modeling Enhancements Future Transmission Upgrades to be effective 5/1/2018.

Filed Date: 2/28/18.

Accession Number: 20180228-5174.

Comments Due: 5 p.m. ET 3/21/18.

Docket Numbers: ER18-935-000.

Applicants: Alabama Power Company.

Description: § 205(d) Rate Filing: SP Butler Solar LGIA Amendment Filing to be effective 2/1/2018.

Filed Date: 2/28/18.

Accession Number: 20180228-5201.

Comments Due: 5 p.m. ET 3/21/18.

Take notice that the Commission received the following qualifying facility filings:

Docket Numbers: QF18-645-000.

Applicants: DTE Marietta, LLC.

Description: Form 556 of DTE Marietta, LLC.

Filed Date: 2/21/18.

Accession Number: 20180221-5168.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2018.
Nathaniel J. Davis, Sr.,
Deputy Secretary.

[FR Doc. 2018-04489 Filed 3-5-18; 8:45 am]

BILLING CODE 6717-01-P